DEPARTMENT OF COMMERCE

Patent and Trademark Office

37 CFR Part 6

[Docket No. PTO-T-2018-0063]

RIN 0651-AD32

International Trademark Classification Changes

Correction

In rule document 2018-26373 beginning on page 62711 in the issue of December 6, 2018, make the following correction:

§ 6.1 International schedule of classes of goods and services [Corrected].

On page 62713 in the second column, in the first paragraph of section 6.1, under the heading titled “Goods”, the numerical text entry “1.” was inadvertently omitted and should appear prior to the word “Chemical”.

[FR Doc. C1-2018-26373 Filed 4-18-19; 8:45 am]

BILLING CODE 1301-00-D